DEPARTMENT OF JUSTICE

Drug Enforcement Administration

Manufacturer of Controlled Substances; Notice of Application

Pursuant to section 1301.33(a) of title 21 of the Code of Federal Regulations (CFR), this is notice that on February 9, 2003, Lin-Zhi International, Inc., 687 North Pastoria Avenue, Sunnyvale, California 94085-2917, made application to the Drug Enforcement Administration (DEA) for registration as a bulk manufacturer of the basic classes of controlled substances listed below:

Drug | Schedule
Tetrahydrocannabinols (7370) | I
3,4-Methylenedioxymethamphetamine (7405) | I
Amphetamine (1100) | II
Methamphetamine (1105) | II
Secrobarbital (2315) | II
Phencyclidine (7471) | II
Cocaine (9041) | II
Methadone (9250) | II
Dextropropoxyphene (9273) | II
Morphine (9300) | II

The firm plans to manufacture small quantities of controlled substances to make drug testing reagents and controls.

Any other such applicant and any person who is presently registered with DEA to manufacture such substances may file comments or objections to the issuance of the proposed registration.

Any such comments or objections may be addressed, in quituplicate, to the Deputy Assistant Administrator, Office of Diversion Control, Drug Enforcement Administration, United States Department of Justice, Washington, DC 20537, Attention: Federal Register Representative, Officer of Chief Counsel (CCD) and must be filed no later than November 3, 2003.

Dated: August 19, 2003.
Laura M. Nagel,
Assistant Administrator, Office of Diversion Control, Drug Enforcement Administration.

[FR Doc. 03-22330 Filed 8-29-03; 8:45 am]

BILLING CODE 4410-09-M